DEPARTMENT OF TRANSPORTATION

Federal Aviation Administration

Aviation Safety Information Analysis and Sharing Project Demonstration for General Aviation (ASIAS for GA Project Demo)

AGENCY: Federal Aviation Administration (FAA), DOT.

ACTION: General statement of policy.

SUMMARY: This document announces a one-year program to demonstrate the capabilities of Aviation Safety Information Analysis and Sharing (ASIAS) for the general aviation community. The document also states the FAA's policy concerning enforcement during this demonstration program.

DATES: This Notice becomes effective on March 28, 2014. The ASIAS for GA Project Demo expires one year after the date of publication of this notice.

FOR FURTHER INFORMATION CONTACT: Corey Stephens, Federal Aviation Administration, 800 Independence Avenue SW., Washington, DC 20591; Telephone: (202) 493-4258 and corey.stephens@faa.gov.

SUPPLEMENTARY INFORMATION:

Background

In recent years, the General Aviation (GA) community has experienced little to no decrease in the number of fatal accidents over the last five years. As a result, the Administrator has identified the implementation of initiatives aimed at reducing GA fatal accidents as a high priority. These initiatives include the work of the General Aviation Joint Steering Committee (GA JSC) and bringing GA operations into ASIAS.

Aviation Safety Information Analysis and Sharing (ASIAS)

To promote an open exchange of safety information for the continuous improvement of aviation safety, the FAA and the aviation industry working in partnership developed ASIAS. ASIAS is a collaborative information sharing program supported by the aviation community to facilitate the proactive analysis of data from broad and extensive sources for purposes of advancing safety initiatives and discovering vulnerabilities in the air transportation system. The sources of safety data range from public sector data that the FAA collects to proprietary data that ASIAS participants voluntarily submit. ASIAS enables the aviation community and the FAA to jointly view different data sources and analyze the aggregate data. This allows ASIAS participants to further analyze their own data and make comparisons to industry norms. ASIAS benefits the FAA and the aviation industry by enabling them to analyze and track accident precursors and known safety hazards and to identify and track newly identified operational risks.

The ASIAS community consists of the FAA and private sector organizations such as corporate operators, airlines, manufacturers and pilot associations. ASIAS participants currently provide de-identified digital flight data and/or de-identified safety reports to ASIAS under various agreements.

ASIAS is managed by a group of government and aviation industry representatives through the ASIAS Executive Board (AEB). The AEB oversees the ASIAS program, including policy and process development, and approves all studies undertaken by ASIAS. The AEB established and tasked a subcommittee known as the Issue Analysis Team (IAT) to perform detailed analyses and effectiveness monitoring of specific safety issues using aggregated ASIAS data. The IAT submits de-identified study results to the AEB, and the AEB determines how best to disseminate the results to the appropriate stakeholders, including the GA JSC.

ASIAS for General Aviation

The GA JSC is reaching out to the GA community directly and through several GA associations to educate pilots and other stakeholders on the benefits of sharing collected safety data with ASIAS in a protected non-punitive manner, in a manner similar to programs for commercial aviation. In addition, the GA JSC continues its work to maximize safety in GA operations. For example, to date, it has proposed 26 safety interventions to address loss of control. However, analysis shows that more comprehensive data sources from the GA community resulting from a GA ASIAS data sharing program would improve understanding of contributing factors to safety risks in the system.

Early in 2014, the steering committee will embark on a demonstration to evaluate the value and benefits of ASIAS for the broader GA community. One of the purposes of the demonstration will be to allow the GA JSC to gain a better understanding of safety risks and emerging threats for the GA community. The project will explore potential new information sources such as General Aviation flight data (recorded through avionics suites, data recorders and new common technologies such as iOS and Android devices), voluntary safety reports, and manufacturer reports.

ASIAS for GA Demonstration Project

The Administrator announced the GA ASIAS Demonstration Project at the General Aviation Summit at FAA Headquarters on January 27, 2014. The purpose of this demonstration project is to test the technical ability to bring GA data into ASIAS. This project will also demonstrate the value of ASIAS to the GA pilot community and industry (associations, manufacturers, instructors, type clubs, etc.).

To fully demonstrate the ASIAS capabilities for GA, ASIAS needs to collect safety information from voluntary safety reporting systems (digital flight data from Flight Operations Quality Assurance (FOQA)/Flight Data Monitoring (FDM) programs, pilot and other safety reports, etc.).

As part of the GA ASIAS Demonstration Project, pilots who voluntarily submit their flight data will do so through the National General Aviation Flight Information Database (NGAFID) which is maintained by the University of North Dakota. Pilots who submit their data will be able to review information for their own flights through the NGAFID; however, a pilot may not access another pilot's data. Additionally, the FAA will not have access to this data while it contains information identifying a pilot.

De-identified data will be regularly transferred to ASIAS. In this de-identified state, the data cannot be linked to the specific pilot, aircraft, or flight. This de-identified data is then aggregated and used by the ASIAS community for safety purposes only.

For the period of this project, data will be collected voluntarily from the GA community in the area surrounding Phoenix, Arizona. Volunteers who are based within a 40 nautical mile ring surrounding KPHX will be sought to participate in the demonstration project. Additional information can also be found at www.GAJSC.org.

Enforcement Policy

The ASIAS for GA Demonstration Project is an important safety initiative and the FAA supports and encourages wide participation. This document is issued in order to alleviate any concerns that any voluntarily submitted data may be used for enforcement purposes. The FAA recognizes that it is important to promote the voluntary submittal of data during the demonstration project. Therefore, none of the data that is being collected during this demonstration project will be accessed or otherwise used for any enforcement activities.

Should an accident or incident occur involving a participant or non-participant in the demonstration project, standard FAA policy for accident or incident investigation will apply. Any data collected will derive solely from routine investigation procedures. No data that is voluntarily submitted in connection with the demonstration project will be accessed for an accident or incident investigation.

The ASIAS for GA Demonstration Project will be in effect for one year beginning on the date of publication of this notice.

Dated: Issued in Washington, DC on March 21, 2014.
Michael G. Whitaker,
Deputy Administrator.

[FR Doc. 2014-06960 Filed 3-27-14; 8:45 am]

BILLING CODE 4910-13-P